DEPARTMENT OF THE TREASURY

Office of Foreign Assets Control

31 CFR Part 587

Publication of Russian Harmful Foreign Activities Sanctions Regulations Determinations.

AGENCY: Office of Foreign Assets Control, Treasury.

ACTION: Publication of two determinations.

SUMMARY: The Department of the Treasury's Office of Foreign Assets Control (OFAC) is publishing two determinations issued pursuant to a March 11, 2022 Executive Order, as amended on December 22, 2023. The determinations were previously issued on OFAC's website.

DATES: The determinations pursuant to Executive Order 14068, as amended, were issued on February 8, 2024. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On March 11, 2022, the President, invoking the authority of, inter alia, the International Emergency Economic Powers Act (50 U.S.C. 1701 et seq.) (IEEPA), issued Executive Order (E.O.) 14068, “Prohibiting Certain Imports, Exports, and New Investment With Respect to Continued Russian Federation Aggression” (87 FR 14381, March 15, 2022). Among other prohibitions, E.O. 14068 section 1(a)(i) prohibits the importation into the United States of the following products of Russian Federation origin: fish, seafood, and preparations thereof; alcoholic beverages; non-industrial diamonds; and any other products of Russian Federation origin as may be determined by the Secretary of the Treasury, in consultation with the Secretary of State and the Secretary of Commerce.

On December 22, 2023, the President, invoking the authority of, inter alia, IEEPA, issued E.O. 14114, “Taking Additional Steps With Respect to the Russian Federation's Harmful Activities” (88 FR 89271, December 26, 2023). Among other things, E.O. 14114 amends E.O.14068 by striking paragraph (a)(i) of section 1 and inserting, in lieu thereof, new language in subsections (a)(i)(A) through (D).

Section 1(a)(i)(A) of E.O. 14068 as amended prohibits the importation and entry into the United States, including importation for admission into a foreign trade zone located in the United States, of the following products of Russian Federation origin: fish, seafood, and preparations thereof; alcoholic beverages; non-industrial diamonds; and any other products of Russian Federation origin, as may be determined by the Secretary of the Treasury, in consultation with the Secretary of State and the Secretary of Commerce.

Section 1(a)(i)(B) of E.O. 14068 as amended prohibits the importation and entry into the United States, including importation for admission into a foreign trade zone located in the United States, of categories of any of the specified products as may be determined by the Secretary of the Treasury, in consultation with the Secretary of State, the Secretary of Commerce, and the Secretary of Homeland Security, that were mined, extracted, produced, or manufactured wholly or in part in the Russian Federation, or harvested in waters under the jurisdiction of the Russian Federation or by Russia-flagged vessels, notwithstanding whether such products have been incorporated or substantially transformed into other products outside of the Russian Federation. The products subject to section 1(a)(i)(B) include fish, seafood, and preparations thereof; diamonds; and any other such products as may be determined by the Secretary of the Treasury, in consultation with the Secretary of State, the Secretary of Commerce, and the Secretary of Homeland Security.

Section 1(a)(i)(D) of E.O. 14068 as amended prohibits the importation and entry into the United States, including importation for admission into a foreign trade zone located in the United States, of products subject to the prohibitions of sections 1(a)(i)(A) through (C) of E.O. 14068 as amended that transited through or were exported from or by the Russian Federation, as may be determined by the Secretary of the Treasury, in consultation with the Secretary of State, the Secretary of Commerce, and the Secretary of Homeland Security.

Determination Pursuant to Section 1(a)(i)(B) of E.O. 14068

On February 8, 2024, pursuant to delegated authority, the Deputy Director of OFAC, in consultation with the Department of State, the Department of Commerce, and the Department of Homeland Security, issued “Determination Pursuant to Section 1(a)(i)(B) of Executive Order 14068”, which determined that the prohibitions in section 1(a)(i)(B) of E.O. 14068 as amended shall apply to certain non-industrial diamonds that were mined, extracted, produced, or manufactured wholly or in part in the Russian Federation.

Determinations Pursuant to Sections 1(a)(i)(A) and 1(a)(i)(D) of E.O. 14068

Also on February 8, 2024, pursuant to delegated authority, the Deputy Director of OFAC issued “Determinations Pursuant to Sections 1(a)(i)(A) and 1(a)(i)(D) of Executive Order 14068” containing two determinations. First, pursuant to delegated authority, and in consultation with the Department of State and the Department of Commerce, the Deputy Director determined that the prohibitions in section 1(a)(i)(A) of E.O. 14068 as amended shall apply to diamond jewelry and unsorted diamonds of Russian Federation origin. Second, pursuant to delegated authority, and in consultation with the Department of State, the Department of Commerce, and the Department of Homeland Security, the Deputy Director determined the prohibitions described in section 1(a)(i)(D) of E.O. 14068 as amended shall apply to diamond jewelry and unsorted diamonds that were exported from the Russian Federation.

Each determination was made available on OFAC's website (https://ofac.treasury.gov) when it was issued. The text of these determinations is below.

Determination Pursuant to Section 1(a)(i)(B) of Executive Order 14068

Prohibitions Related to Imports of Certain Categories of Diamonds

Pursuant to sections 1(a)(i)(B), 1(b), and 5 of Executive Order (E.O.) 14068 of March 11, 2022 (“Prohibiting Certain Imports, Exports, and New Investment With Respect to Continued Russian Federation Aggression”), as amended by E.O. 14114 of December 22, 2023 (“Taking Additional Steps With Respect to the Russian Federation's Harmful Activities”), and 31 CFR 587.802, and in consultation with the Department of State, the Department of Commerce, and the Department of Homeland Security, I hereby determine that the prohibitions in section 1(a)(i)(B) of E.O. 14068 shall apply to the following categories of diamonds that were mined, extracted, produced, or manufactured wholly or in part in the Russian Federation, notwithstanding whether such diamonds have been substantially transformed into other products outside of the Russian Federation:

(1) effective March 1, 2024, non-industrial diamonds with a weight of 1.0 carat or greater; and

(2) effective September 1, 2024, non-industrial diamonds with a weight of 0.5 carats or greater.

As a result, the importation and entry into the United States, including importation for admission into a foreign trade zone located in the United States, of such non-industrial diamonds is prohibited, except to the extent provided by law, or unless licensed or otherwise authorized by the Office of Foreign Assets Control.

Lisa M. Palluconi,

Deputy Director, Office of Foreign Assets Control.

February 8, 2024.

OFFICE OF FOREIGN ASSETS CONTROL

Determinations Pursuant to Sections 1(a)(i)(A) and 1(a)(i)(D) of Executive Order 14068

Prohibitions Related to Imports of Diamond Jewelry and Unsorted Diamonds of Russian Federation Origin and Diamond Jewelry and Unsorted Diamonds Exported From the Russian Federation

Pursuant to sections 1(a)(i)(A), 1(b), and 5 of Executive Order (E.O.) 14068 of March 11, 2022 (“Prohibiting Certain Imports, Exports, and New Investment With Respect to Continued Russian Federation Aggression”), as amended by E.O. 14114 of December 22, 2023 (“Taking Additional Steps With Respect to the Russian Federation's Harmful Activities”), and 31 CFR 587.802, and in consultation with the Department of State and the Department of Commerce, I hereby determine that the prohibitions in section 1(a)(i)(A) of E.O. 14068 shall apply to the following products of Russian Federation origin: diamond jewelry and unsorted diamonds.

Pursuant to sections 1(a)(i)(D), 1(b), and 5 of E.O. 14068 and 31 CFR 587.802, and in consultation with the Department of State, the Department of Commerce, and the Department of Homeland Security, I hereby determine that the prohibitions in section 1(a)(i)(D) of E.O. 14068 shall apply to the following products that were exported from the Russian Federation: diamond jewelry and unsorted diamonds.

As a result, the importation and entry into the United States, including importation for admission into a foreign trade zone located in the United States, of diamond jewelry and unsorted diamonds of Russian Federation origin and diamond jewelry and unsorted diamonds exported from the Russian Federation is prohibited, except to the extent provided by law, or unless licensed or otherwise authorized by the Office of Foreign Assets Control.

This determination shall take effect on March 1, 2024.

Lisa M. Palluconi,

Deputy Director, Office of Foreign Assets Control.

February 8, 2024.

Bradley T. Smith,
Director, Office of Foreign Assets Control.

[FR Doc. 2024-04855 Filed 3-6-24; 8:45 am]

BILLING CODE 4810-AL-P